NATIONAL TRANSPORTATION SAFETY BOARD

Sunshine Act Meeting

TIME AND DATE: 9:30 a.m., Tuesday, August 11, 2015.

PLACE: NTSB Conference Center, 429 L'Enfant Plaza SW., Washington, DC 20594.

STATUS: The one item is open to the public.

MATTER TO BE CONSIDERED: 8717—Highway Accident Report: Multivehicle Work Zone Crash on Interstate 95, Cranbury, New Jersey, June 7, 2014.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, August 7, 2015.

The public may view the meeting via a live or archived webcast by accessing a link under “News & Events” on the NTSB home page at www.ntsb.gov.

Schedule updates, including weather-related cancellations, are also available at www.ntsb.gov.

FOR FURTHER INFORMATION CONTACT: Candi Bing at (202) 314-6403 or by email at bingc@ntsb.gov.

FOR MEDIA INFORMATION CONTACT: Keith Holloway (202) 314-6100 or by email at keith.holloway@ntsb.gov.

Dated: Tuesday, August 4, 2015.
Candi R. Bing,
Federal Register Liaison Officer.

[FR Doc. 2015-19502 Filed 8-5-15; 11:15 am]

BILLING CODE 7533-01-P